DEPARTMENT OF HEALTH AND HUMAN SERVICES

Administration for Children and Families

Submission for OMB Review; Comment Request

Title: Personal Responsibility Education Program (PREP) Multi-Component Evaluation—Data Collection Related to the Performance Analysis Study and the Impact and the In-depth Implementation Study.

OMB No.: 0970-0398.

Description: The Office of Data Analysis, Research, and Evaluation (HHS/ACF/ACYF/ODARE) in the Administration for Children, Youth and Families (ACYF) and the Office of Planning, Research, and Evaluation (HHS/ACF/OPRE) in the Administration for Children and Families (ACF) propose a data collection activity as part of the Personal Responsibility Education Program (PREP) Multi-Component Evaluation. The goals of the PREP Multi-Component Evaluation are to document how PREP programs are designed and implemented in the field, collect performance measure data for PREP programs, and assess the effectiveness of selected PREP-funded programs.

The evaluation includes three primary interconnected components or “studies:”

1. The Impact and In-depth Implementation Study (IIS)

2. The Design and Implementation Study (DIS)

3. The Performance Analysis Study (PAS)

This proposed information collection activity includes: (a) All measures for the PAS for Competitive PREP grantees; (b) follow-up measures for the IIS impact analysis; and (c) measures for the IIS in-depth implementation analysis. A description of all three studies and a description of the specific activities proposed were provided in a 60 Day Federal Register Notice posted in Vol. 78, No. 24, p.8150 on February 5, 2013.

Respondents: Program applicants (i.e., adolescents); Data managers (e.g., at schools or state agencies); Program administrators and staff; Participating youth; and Community members.

Annual Burden Estimates

Annual Burden: Already Approved
[still in use]
Evaluation component | Total annual burden hours
Field Data Collection | 240
Design and Implementation Study | 30
Performance Analysis Study | 29,647
In-depth Implementation & Impact Study | 1,425
Total | 31,342

Annual Burden: Current Request
Activity | Respondent | Total number of respondents | Number of responses per respondent | Average burden per response (hours) | Total annual burden hours
Performance Analysis Study: CPREP Grantees
Entry Survey | Program Participants | 23,565 | 1 | .08333 | 655
Exit Survey | Program Participants | 30,615 | 1 | .16667 | 1,701
Performance Reporting System Data Entry Form | Grantees | 37 | 2 | 24 | 592
Implementation Site Data Collection Protocol | Implementation Sites | 300 | 2 | 8 | 1,600
In-depth Implementation and Impact Analysis Study
Focus group guide with participants | Program Participants | 320 | 1 | 1.5 | 160
Semi-structured interview topic guide | Program staff and stakeholders | 160 | 2 | 1 | 107
Staff Survey | Program Staff | 100 | 2 | .5 | 33
First Follow-Up Survey | Program Participants | 4,800 | 1 | .75 | 1,200
Second Follow-Up Survey | Program Participants | 2,250 | 1 | .75 | 563
Program Attendance Data Collection Protocol | Program Staff | 90 | 12 | .25 | 90
Total Annual Burden Hours being Requested |  |  |  |  | 6,701

Additional Information: Copies of the proposed collection may be obtained by writing to the Administration for Children and Families, Office of Planning, Research and Evaluation, 370 L'Enfant Promenade SW., Washington, DC 20447, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration, for Children and Families.

Steven M. Hanmer,
OPRE Reports Clearance Officer.

[FR Doc. 2013-14700 Filed 6-19-13; 8:45 am]

BILLING CODE 4184-37-P